ENVIRONMENTAL PROTECTION AGENCY

40 CFR Part 168

[EPA-HQ-OPP-2009-0607; FRL-9913-18]

RIN 2070-AJ53

Withdrawal of Labeling of Pesticide Products and Devices for Export

AGENCY: Environmental Protection Agency (EPA).

ACTION: Withdrawal of direct final rule.

SUMMARY: In the Federal Register of April 30, 2014, EPA published a direct final rule amending the regulations that pertain to the labeling of pesticide products and devices intended solely for export. In accordance with the procedures described in the April 30, 2014 Federal Register document, EPA is withdrawing the direct final rule, because the Agency received adverse comments.

DATES: Effective July 11, 2014 the rule published in the Federal Register of April 30, 2014 (79 FR 24347) (FRL-9909-82) is withdrawn.

FOR FURTHER INFORMATION CONTACT: Kathryn Boyle, Field and External Affairs Division (7506P), Office of Pesticide Programs, Environmental Protection Agency, 1200 Pennsylvania Ave. NW., Washington, DC 20460-0001; telephone number: (703) 305-6304; email address: boyle.kathryn@epa.gov.

SUPPLEMENTARY INFORMATION:

I. Does this action apply to me?

A list of potentially affected entities is provided in the April 30, 2014 Federal Register document. If you have questions regarding the applicability of this action to a particular entity, consult the person listed under FOR FURTHER INFORMATION CONTACT.

II. What rule is being withdrawn?

In the April 30, 2014 Federal Register document, EPA amended the labeling regulations for pesticide products and devices intended solely for export to allow placement of required information on collateral labeling attached to a shipping container of such products rather than on the label of each individual product in such a shipment by direct final rule. In accordance with the procedures described in the April 30, 2014 Federal Register document, EPA is withdrawing the direct final rule, because the Agency received adverse comments, copies of which are available in the docket. Elsewhere in this Federal Register, EPA is proposing a rule to seek public comment on the labeling regulations and the issues raised by the adverse comments received.

III. How do I access the docket?

To access the docket, please go to http://www.regulations.gov and follow the online instructions using the docket ID number EPA-HQ-OPP-2009-0607. Additional information about the Docket Facility is also provided under ADDRESSES in the April 30, 2014 Federal Register document. If you have questions, consult the person listed under FOR FURTHER INFORMATION CONTACT.

IV. Good Cause Finding

EPA finds that there is “good cause” under the Administrative Procedure Act (APA) (5 U.S.C. 553(b)(3)(B)) to withdraw the rule discussed in this document without prior notice and comment. For this document, notice and comment is impracticable and unnecessary because EPA is under a time limit to publish this withdrawal. It was determined that this document is not subject to the 30-day delay of effective date generally required by 5 U.S.C. 553(d). This withdrawal must become effective prior to the effective date of the rule being withdrawn.

V. Statutory and Executive Order Reviews

This document withdraws regulatory requirements that have not gone into effect. As such, the Agency has determined that this withdrawal will not have any adverse impacts, economic or otherwise. The statutory and Executive Order review requirements applicable to the rule being withdrawn were discussed in the April 30, 2014 Federal Register document. Those review requirements do not apply to this action because it is a withdrawal and does not contain any new or amended requirements.

VI. Congressional Review Act (CRA)

Pursuant to the CRA (5 U.S.C. 801 et seq.), EPA will submit a report containing this rule and other required information to the U.S. Senate, the U.S. House of Representatives, and the Comptroller General of the United States prior to publication of the rule in the Federal Register. This action is not a “major rule” as defined by 5 U.S.C. 804(2). Section 808 of the CRA allows the issuing agency to make a rule effective sooner than otherwise provided by CRA if the agency makes a good cause finding that notice and public procedure is impracticable, unnecessary, or contrary to the public interest. As required by 5 U.S.C. 808(2), this determination is supported by a brief statement in Unit IV.

List of Subjects in 40 CFR Part 168

Environmental protection, Administrative practice and procedure, Advertising, Labeling, Pesticides and pests, Reporting and recordkeeping requirements.

Dated: July 3, 2014.
James Jones,
Assistant Administrator, Office of Chemical Safety and Pollution Prevention.

[FR Doc. 2014-16275 Filed 7-10-14; 8:45 am]

BILLING CODE 6560-50-P